DEPARTMENT OF COMMERCE

International Trade Administration

[A-533-502]

Certain Welded Carbon Steel Standard Pipes and Tubes From India: Final Determination of No Shipments of Antidumping Duty Administrative Review; 2022-2023

AGENCY: Enforcement and Compliance, International Trade Administration, Department of Commerce.

SUMMARY: The U.S. Department of Commerce (Commerce) has determined that Surya Roshni Limited (Surya) made no shipments during the period of review (POR), May 1, 2022, through April 30, 2023.

DATES: Applicable June 3, 2024.

FOR FURTHER INFORMATION CONTACT: Garry Kasparov, AD/CVD Operations, Office I, Enforcement and Compliance, International Trade Administration, U.S. Department of Commerce, 1401 Constitution Avenue NW, Washington, DC 20230; telephone: (202) 482-1397.

SUPPLEMENTARY INFORMATION:

Background

On February 6, 2024, Commerce published the Preliminary Determination of No Shipments of this review in the Federal Register.¹ We invited interested parties to comment on the Preliminary Determination of No Shipments.² No interested parties submitted comments. Accordingly, Commerce made no changes to the Preliminary Determination of No Shipments, which we have adopted as the final results of review, and thus, no decision memorandum accompanies this notice. Commerce conducted this administrative review in accordance with section 751 of the Tariff Act of 1930, as amended (the Act).

¹ See Certain Welded Carbon Steel Standard Pipes and Tubes from India: Preliminary Determination of No Shipments and Partial Rescission of Review; 2022-2023, 89 FR 8160 (February 6, 2024) (Preliminary Determination of No Shipments), and accompanying Preliminary Decision Memorandum (PDM).

² Id.

Scope of the Order

The products covered by the order include certain welded carbon steel standard pipes and tubes with an outside diameter of 0.375 inch or more but not over 16 inches. A full description of the scope of the order is contained in the Preliminary Determination of No Shipments PDM.

Final Determination of No Shipments

In the Preliminary Determination of No Shipments, Commerce determined that Surya did not have knowledge that the subject merchandise was destined for the United States, and, thus, Surya is not considered the exporter of subject merchandise during the POR for the purposes of this review.³ As no parties commented on the determination and we have not received any information to contradict this determination, for the final results of review, we continue to find that Surya made no shipments of subject merchandise to the United States during the POR.

³ See Preliminary Determination of No Shipments PDM at 3-4.

Disclosure

Normally, Commerce discloses to interested parties the calculations performed in final results within five days of any public announcement or, if there is no public announcement, within five days of the date of publication of these final results in the Federal Register, in accordance with 19 CFR 351.224(b). However, as there were no calculations performed in this administrative review, there are no calculations to disclose.

Assessment Rates

For entries of subject merchandise during the POR produced by Surya, we will instruct CBP to liquidate suspended entries at the all-others rate if there is no rate for the intermediate company(ies) involved in the transaction.⁴

⁴ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements for estimated antidumping duties will be effective for all shipments of subject merchandise entered, or withdrawn from warehouse, for consumption on or after the publication date of the final results of this administrative review, as provided by section 751(a)(2)(C) of the Act: (1) for merchandise exported by a producer or exporter not covered in this review but covered in a prior completed segment of the proceeding, the cash deposit rate will continue to be the company-specific rate published for the most recently-completed segment of this proceeding; (2) if the exporter is not a firm covered in this review, a prior review, or the original less-than-fair-value (LTFV) investigation, but the producer has been covered in a prior completed segment of this proceeding, the cash deposit rate will be the company-specific rate established for the most recent period for the producer of the merchandise; (3) the cash deposit rate for all other producers or exporters will continue to be 7.08 percent,⁵ the all-others rate established in the LTFV investigation. These cash deposit requirements, when imposed, shall remain in effect until further notice.

⁵ See Antidumping Duty Order; Certain Welded Carbon Steel Standard Pipes and Tubes from India, 51 FR at 17384 (May 12, 1986).

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing these final results of administrative review in accordance with sections 751(a)(1) and 777(i) of the Act, and 19 CFR 351.221(b)(5).

Dated: May 28, 2024.
Ryan Majerus,
Deputy Assistant Secretary for Policy and Negotiations, performing the non-exclusive functions and duties of the Assistant Secretary for Enforcement and Compliance.

[FR Doc. 2024-12121 Filed 5-31-24; 8:45 am]

BILLING CODE 3510-DS-P